DEPARTMENT OF ENERGY

Federal Energy Regulatory Commission

[Project No. 190-105]

Moon Lake Electric Association, Inc.; Notice of Effectiveness of Withdrawal of License Application

On January 31, 2017, Moon Lake Electric Association, Inc. (Moon Lake) filed an application for a new license for the 1.2-megawatt Uintah Hydroelectric Project No. 190. On December 23, 2020, Moon Lake filed a notice of withdrawal of its application. Moon Lake states that the anticipated cost of operating the project under the new license will render the project uneconomic.

No motion in opposition to the notice of withdrawal has been filed, and the Commission has taken no action to disallow the withdrawal. Pursuant to Rule 216(b) of the Commission's Rules of Practice and Procedure,¹ the withdrawal of the application became effective on January 8, 2021, and this proceeding is hereby terminated. Commission staff are concurrently issuing a letter to Moon Lake requiring it to file an application to surrender the project.

¹ 18 CFR 385.216(b) (2020).

Dated: January 8, 2021.
Nathaniel J. Davis, Sr.,
Deputy Secretary.

[FR Doc. 2021-00680 Filed 1-13-21; 8:45 am]

BILLING CODE 6717-01-P